CIVIL RIGHTS COMMISSION

Sunshine Act Meetings; In the Name of Hate: Examining the Federal Government's Role in Responding to Hate Crimes

AGENCY: United States Commission on Civil Rights.

ACTION: Notice of Commission public briefing.

DATES: Friday, May 11, 2018, 9:00 a.m.-6:30 p.m. EST. See detailed agenda below.

ADDRESSES: National Place Building, 1331 Pennsylvania Ave. NW, Suite 1150, Washington, DC 20425. Entrance is via F St. NW, between 13th and 14th Streets NW.

FOR FURTHER INFORMATION CONTACT: Brian Walch, (202) 376-8371; TTY: (202) 376-8116; publicaffairs@usccr.gov.

SUPPLEMENTARY INFORMATION: The Commission will hold a public briefing, “In the Name of Hate: Examining the Federal Government's Role in Responding to Hate Crimes.” This meeting is open to the public. The Commission will examine best practices for local law enforcement on collecting and reporting data, and the role of the Education and Justice Departments in prosecution and prevention of these heinous acts. Commissioners will hear from local law enforcement and federal government officials, experts, academics, advocates, and survivors of hate. Testimony from this briefing will form an integral basis for the Commission's subsequent report to Congress, the President, and the American people regarding the state of hate crimes and bias-related incidents across the nation.

Members of the public who wish to address the Commission will have an opportunity to do so during an open comment session that will take place between 5:00 p.m. and 6:30 p.m. EST. Individuals will be able to register for speaking slots, both online and at the briefing (in-person). Full details regarding registration for the open comment session will be available on the Commission's website (www.usccr.gov) five (5) business days prior to the briefing. Thirty (30) spots will be available during the one and one-half hour period. Each individual will have up to three (3) minutes to speak, with spots allotted on a first-come, first-serve basis. The Commission will also accept written materials for consideration as we prepare our report. Please submit to HateCrimes@usccr.gov no later than June 11, 2018.

The event will live-stream at https://www.youtube.com/user/USCCR/videos. (Please note that streaming information is subject to change.) If attending in person, we ask that you RSVP to publicaffairs@usccr.gov. Persons with disabilities who need accommodation should contact Pamela Dunston at 202-376-8105, or at access@usccr.gov, at least seven (7) business days before the date of the meeting. The Commission will post panelists' submitted written testimony on our website in advance of the briefing; we will not be providing printed copies. Individuals with disabilities who would be in need of printed copies should contact publicaffairs@usccr.gov at least three (3) days prior to the briefing. You can stay abreast of updates and additional information on our website (www.usccr.gov), Twitter (https://twitter.com/USCCRgov) and Facebook (https://www.facebook.com/USCCRgov/).

Meeting Agenda

I. Introductory Remarks: Chair Catherine E. Lhamon: 9:00 a.m.-9:10 a.m.

II. Panel One: Local Law Enforcement: 9:10 a.m.-10:30 a.m.

III. Break: 10:30 a.m.-10:40 a.m.

IV. Panel Two: Community Stakeholders: 10:40 a.m.-12:00 p.m.

IV. Break: 12:00 p.m.-1:00 p.m.

V. Panel Three: Legal Scholars and Experts: 1:00 p.m.-2:20 p.m.

VI. Break: 2:20 p.m.-2:30 p.m.

VII. Panel Four: Federal Officials: 2:30 p.m.-3:50 p.m.

VIII. Break: 3:50 p.m.-5:00 p.m.

IX. Open Public Comment Session: 5:00 p.m.-6:30 p.m.

See Supplementary Information section above for full details.

X. Adjourn Briefing: 6:30 p.m.

Dated: April 19, 2018.
Brian Walch,
Director, Communications and Public Engagement.

[FR Doc. 2018-08535 Filed 4-19-18; 4:15 pm]

BILLING CODE 6335-01-P